FEDERAL COMMUNICATIONS COMMISSION

[DA 09-209]

Consumer Advisory Committee

AGENCY: Federal Communications Commission.

ACTION: Notice.

SUMMARY: The Commission announces the next meeting date and agenda of its Consumer Advisory Committee (“Committee”). The purpose of the Committee is to make recommendations to the Commission regarding consumer issues within the jurisdiction of the Commission and to facilitate the participation of all consumers in proceedings before the Commission.

DATES: The meeting of the Committee will take place on Wednesday, March 4, 2009, 3 p.m. to 5 p.m., at the Commission's Headquarters Building, Room TW-C305.

ADDRESSES: Federal Communications Commission, 445 12th Street, NW., Washington, DC 20554.

FOR FURTHER INFORMATION CONTACT: Scott Marshall, Consumer and Governmental Affairs Bureau, (202) 418-2809 (voice), (202) 418-0179 (TTY), or e-mail Scott.Marshal@fcc.gov.

SUPPLEMENTARY INFORMATION: This is a summary of the Commission's Public Notice DA 09-209. The full text of document DA 09-209 and any subsequently filed documents in this matter will be available for public inspection and copying during regular business hours at the FCC Reference Information Center, Portals II, 445 12th Street, SW., Room CY-A257, Washington, DC 20554, (202) 418-0270. Document DA 09-209 and any subsequently filed documents in this matter may also be purchased from the Commission's duplicating contractor at the contractor's Web site, http://www.bcpiweb.com, or by calling (800) 378-3160. Furthermore, document DA 09-209 any subsequently filed documents in this matter, may be found by searching ECFS at http://www.fcc.gov/cgb/ecfs.

To request materials in accessible formats for people with disabilities (Braille, large print, electronic files, audio format), send an e-mail to fcc504@fcc.gov or call the Consumer and Governmental Affairs Bureau at (202) 418-0530 (voice), (202) 418-0432 (TTY). Document DA 09-209 can also be downloaded in Word or Portable Document Format (PDF) at: http://www.fcc.gov/cgb/cac/html.

Synopsis

On February 9, 2009, the Commission released document DA 09-209, which announced the agenda, date and time of the Committee's next meeting. At its March 4, 2009 meeting, the Committee will consider administrative matters relating to its structure, operations, and future agenda, which were not addressed at its January 30, 2009 meeting because of time constraints. The Committee may also consider other matters within the jurisdiction of the Commission. It is anticipated that a majority of Committee members will participate via teleconference. A limited amount of time on the agenda will be available for oral comments from the public attending at the actual meeting site.

The Committee is organized under and operates in accordance with the provisions of the Federal Advisory Committee Act, 5 U.S.C. App. 2 (1988). The meeting is open to the public. Members of the public may send written comments to: Scott Marshall, Designated Federal Officer of the Committee, at the address indicated on the first page of this document. The meeting site is accessible to people with disabilities. Meetings are sign language interpreted with real-time transcription and assistive listening devices available. Meeting agendas are provided in accessible formats.

Federal Communications Commission.
Catherine W. Seidel,
Chief, Consumer and Governmental Affairs Bureau.

[FR Doc. E9-3283 Filed 2-13-09; 8:45 am]

BILLING CODE 6712-01-P